DEPARTMENT OF TRANSPORTATION

Federal Aviation Administration

Permanent Closure of Cincinnati Blue Ash Airport

AGENCY: Federal Aviation Administration (FAA), DOT.

ACTION: Notice of permanent closure of Cincinnati Blue Ash Airport (ISZ).

SUMMARY: The Federal Aviation Administration (FAA) received written notice, dated July 30, 2012, from the city of Cincinnati advising that on August 29, 2012, it was permanently closing Cincinnati Blue Ash Airport (ISZ), Cincinnati, Ohio; the notice was in excess of 30 days before the closure in accordance with 49 U.S.C. 46319(a). The FAA hereby publishes the city of Cincinnati's notice of permanent closure of Cincinnati Blue Ash Airport in accordance with 49 U.S.C. 46319(b).

DATES: The permanent closure of the airport is effective as of August 29, 2012.

FOR FURTHER INFORMATION CONTACT: Susan Mowery Schalk, A.A.E., AICP Manager, Airports Division, FAA Great Lakes Region, 847.294.7272 office.

SUPPLEMENTARY INFORMATION:

Introduction and Background

On July 30, 2012, the city of Cincinnati, sponsor of Cincinnati Blue Ash Airport (ISZ), informed the Federal Aviation Administration that the Airport will close permanently on August 29, 2012. (See enclosed letter) Cincinnati Blue Ash Airport (ISZ) is a general aviation reliever airport to Cincinnati/Northern Kentucky International Airport (CVG). It has been owned and operated by the city of Cincinnati since 1946. ISZ is a small 257-acre non-towered, general aviation airport. The useful life of the federally funded improvements extinguished in 2003. The Federal Aviation Administration recognizes that the city is no longer contractually obligated to continue operating this airport. Title 49 United States Code§ 46319 requires a public agency (as defined in section 47102) may not permanently close an airport listed in the national plan of integrated airport systems under section 47103 without providing written notice to the Administrator of the Federal Aviation Administration at least 30 days before the date of the closure. The FAA recognizes the letter dated July 30, 2012 from the City of Cincinnati meets that requirement.

Issued in Washington, DC, on August 28, 2012.
Randall S. Fiertz,
Director, Office of Airport Compliance and Management Analysis.

[FR Doc. 2012-22255 Filed 9-10-12; 8:45 am]

BILLING CODE 4910-13-P